ENVIRONMENTAL PROTECTION AGENCY

[EPA-HQ-OAR-2003-0079; FRL-8242-7]

Agency Information Collection Activities: Proposed Collection; Comment Request; 8-Hour Ozone National Ambient Air Quality Standard Implementation Rule; EPA ICR No. 2236.02, OMB Control No. 2060-0594

AGENCY: Environmental Protection Agency (EPA).

ACTION: Notice.

SUMMARY: In compliance with the Paperwork Reduction Act (PRA) (44 U.S.C. 3501 et seq.), this document announces that EPA is planning to submit a request to renew an existing approved Information Collection Request (ICR) to the Office of Management and Budget (OMB). This ICR is scheduled to expire on April 30, 2007. Before submitting the ICR to OMB for review and approval, EPA is soliciting comments on specific aspects of the proposed information collection as described below.

DATES: Comments must be submitted on or before January 16, 2007.

ADDRESSES: Submit your comments, identified by Docket ID No. EPA-HQ-OAR-2003-0079, by one of the following methods:

• www.regulations.gov: Follow the on-line instructions for submitting comments.

• E-mail: a-and-r-docket@epamail.epa.gov.

• Fax: 202-566-1741.

• Mail: Attention Docket ID No. EPA-HQ-OAR-2003-0079, U.S. Environmental Protection Agency, EPA West (Air Docket), 1200 Pennsylvania Avenue, Northwest, Mailcode: 6102T, Washington, DC 20460.

• Hand Delivery: U.S. Environmental Protection Agency, EPA West (Air Docket), 1301 Constitution Avenue, Northwest, Room 3334, Washington, DC 20004, Attention Docket ID No. EPA-HQ-OAR-2003-0079. Such deliveries are only accepted during the Docket's normal hours of operation, and special arrangements should be made for deliveries of boxed information.

Note: The EPA Docket Center suffered damage due to flooding during the last week of June 2006. The Docket Center is continuing to operate. However, during the cleanup, there will be temporary changes to Docket Center telephone numbers, addresses, and hours of operation for people who wish to make hand deliveries or visit the Public Reading Room to view documents. Consult EPA's Federal Register notice at 71 FR 38147 (July 5, 2006) or the EPA Web site at http://www.epa.gov/epahome/dockets.htm for current information on docket operations, locations and telephone numbers. The Docket Center's mailing address for U.S. mail and the procedure for submitting comments to www.regulations.gov are not affected by the flooding and will remain the same.

Instructions: Direct your comments to Docket ID No. EPA-HQ-OAR-2003-0079. The EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov website is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. {For additional information about EPA's public docket visit the EPA Docket Center homepage at http://www.epa.gov/epahome/dockets.htm.

FOR FURTHER INFORMATION CONTACT: John Silvasi, Air Quality Policy Division, Office of Air Quality Planning and Standards, Mail Code C504-03, Research Triangle Park, North Carolina 27711, telephone number (919) 541-3407, facsimile number (919) 541-5509, electronic mail e-mail address: silvasi.john@epa.gov.

SUPPLEMENTARY INFORMATION:

How Can I Access the Docket and/or Submit Comments?

The EPA has established a public docket for this ICR under Docket ID No. EPA-HQ-OAR-2003-0079 established a public docket for each of the ICRs identified in this document (see the Docket ID. numbers for each ICR that are provided in the text, which is available for online viewing at www.regulations.gov, or in person viewing at the Air Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Docket is 202-566-1752.

Use www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

[Docket ID No. EPA-HQ-OAR-2003-0079]

Affected entities: Entities potentially affected by this action are State and local governments and EPA Regional offices. There are other entities that may be indirectly affected, as they may comment on the draft submissions before they are forwarded to EPA's Regional Offices. These include potentially regulated entities, representatives of special interest groups, and individuals.

Title: 8-hour Ozone National Ambient Air Quality Standard Implementation Rule.

ICR numbers: EPA ICR No. 2236.02, OMB Control No. 2060-0594.

ICR status: This ICR is currently scheduled to expire on April 30, 2007. An Agency may not conduct or sponsor, and a person is not required to respond to, a collection of information unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers for certain EPA regulations is consolidated in 40 CFR part 9.

Abstract: The Paperwork Reduction Act requires the information found in this Information Collection Request (ICR) number 2236.02, to assess the burden (in hours and dollars) of the 8-hour Ozone National Ambient Air Quality Standard Implementation (NAAQS) Rule as well as the periodic reporting and record keeping necessary to maintain the rule. The rule was proposed June 2, 2003 (68 FR 32802) and promulgated in two Phases: Phase 1 published April 30, 2004 (69 FR 23951) and Phase 2 published November 29, 2005 (70 FR 71612). The preamble to the proposed and final regulation addressed the administrative burden in general terms. The preamble to the final Phase 2 rule stated that an ICR would be prepared (70 FR at 71692). The rule includes requirements that involve collecting information from States with areas that have been designated nonattainment for the 8-hour ozone NAAQS.

The time period covered in this ICR is a three year period from May 1, 2007 through April 30, 2010. The information collection milestones include State submission of an attainment demonstration State Implementation Plan (SIP), a Reasonable Further Progress (RFP) SIP submission, and a Reasonable Available Control Technology (RACT) SIP. However, not all of the milestones and associated burden and administrative cost estimates apply to every designated nonattainment area. Areas with cleaner air quality have fewer requirements.

Burden Statement: The annual public reporting and recordkeeping burden for this collection of information is estimated to average 9,511 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 30.

Frequency of response: Annual.

Estimated total average number of responses for each respondent: 30.

Estimated total annual burden hours: 285,333 hours.

Estimated total average annual costs per respondent: $316,720. This includes an estimated burden cost of $316,720 and an estimated cost of $0 for capital investment or maintenance and operational costs.

Additional Background on Burden Estimation Method

The methodology and draft estimates of incremental administrative burden for this ICR are documented in a separate supporting statement in the docket. They were submitted to EPA's Ozone National Ambient Air Quality Standards Implementation Workgroup for their review and comment. This workgroup is comprised of representatives from EPA Regional Offices 1 through 9 as well as EPA's Offices of General Counsel, Policy-Economics and Innovation, and Air and Radiation (including the Offices of Transportation and Air Quality, Air Quality Planning and Standards, and Policy Analysis and Review).

The workgroup provided constructive criticism on earlier drafts which resulted in clarifications to the methodology section, revisions to the categorization of non-attainment areas by regional office, and changes to the temporal allocation of regional office administrative burden. The workgroup reviewed the June 2006 ICR supporting statement which was forwarded to OMB's Office of Information and Regulatory Affairs. The workgroup believed there would be differences between the realized incremental administrative burden of the states and regional offices versus what was in the supporting statement. However, the estimates in the ICR supporting statement were judged to be appropriate (e.g. in the right ballpark).

Past Estimates of Burden and Comments Received

In 1997, the Agency prepared a Regulatory Impact Analysis (RIA) for the 8-hour Ozone Standard promulgation. The RIA's estimated total incremental administrative burden for the states was 22,000 to 25,000 hours.¹ The incremental burden hour estimate developed in this ICR supporting statement is more than 800,000 hours. Differences between the estimates are the result of variations in the data inputs and presumed implementation framework. Here are some examples:

¹ EPA's Regulatory Impact Analysis for the Revised Ozone and PM NAAQS and the Proposed Regional Haze Rule (http://www.epa.gov/ttn/oarpg/naaqsfin/ria.html) page 10-17, Table 10.6.

• The Subpart 1 approach to implementation was envisioned for all 8-hour non-attainment areas when the 1997 RIA was prepared. The envisioned Subpart 1 approach was less prescriptive and would result in a lower administrative burden than the promulgated Phase I and Phase II implementation rules. Under those promulgated implementation rules, the more prescriptive Subpart 2 requirements apply to areas with the worst ozone problems.

• The burden estimates in the 1997 RIA presumed that the SIP activities being performed in areas that were in non-attainment with the 1-hour standard would also apply to the 8-hour standard. Hence, for these areas there would be a lower incremental burden associated with the 8-hour standard. The current supporting statement for this ICR presumes that, although the 1-hour SIP activities are helpful, they are not as relevant as previously assumed for developing a SIP for an 8-hour standard. This is because SIP development efforts for the 8-hour standard require different emissions inventories, compliance and attainment timing, and regulatory baselines.

The Agency (EPA) presented the 1997 RIA burden estimate ($1.1 million) in the preamble to the proposed implementation rule (June 2, 2003 (68 FR 32802)). Three comments were received during the public comment period regarding the dollar estimates of incremental burden.² Two local air pollution control agencies in California representing subpart 2 non-attainment areas for the 8-hour standard commented that the $1.1 million dollar estimate as a total for all non-attainment areas was low. One local agency was in a subpart 2-marginal area for the 8-hour ozone standard. That local agency comment noted that their burden in developing the 1-hour SIP was more than $2 million. The other local agency was in a subpart 2-serious area for the 8-hour standard. That local agency noted that the cost of developing their 1-hour ozone SIP was more than $1 million. In this ICR supporting statement, EPA estimates that the average incremental burden for implementing the 8-hour standard in the California Subpart 2 non-attainment areas is $1.1 million in each area over the 3 year reporting period. See Table 5 and section 6(b). The EPA's estimates recognize that, although the environmental progress already realized in California is substantial, California's ozone non-attainment problems are generally more challenging than elsewhere in the United States.

² See http://www.regulations.gov; docket documents EPA-HQ-OAR-2003-0079-0140, EPA-HQ-OAR-2003-0079-0239, and EPA-HQ-OAR-2003-0079-0260.

The third public comment on the 1997 RIA burden estimate came from the state of Texas. The commenter noted that the total burden for three 8-hour ozone nonattainment areas (that include Houston, Dallas, and Beaumont) associated with developing and fulfilling outstanding 1-hour as well as 8-hour ozone SIP obligations could exceed $2.5 million. The EPA's estimate for two subpart 2 8-hour non-attainment areas in Texas in this ICR supporting statement is $2.3 million over the 3 year reporting period. See Table 5 and Section 6(b).

The estimated incremental burden cost provided in this ICR is more consistent with the dollar burden estimates provided in the 3 commenters than the previous estimates in the 1997 RIA.

What Is the Next Step in the Process for This ICR?

The EPA will consider the comments received under this notice and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: November 6, 2006.
Scott L. Mathias,
Acting Director, Air Quality Policy Division, Office of Air Quality Planning and Standards, Office of Air and Radiation.

[FR Doc. E6-19376 Filed 11-14-06; 8:45 am]

BILLING CODE 6560-50-P